NATIONAL SCIENCE FOUNDATION

Sunshine Act Meeting

AGENCY HOLDING MEETING: National Science Foundation, National Science Board and its Subdivisions.

DATE AND TIME: April 30, 2004: 1:30 p.m.-3:00 p.m.

PLACE: Room 130, The National Science Foundation, 4201 Wilson Boulevard, Arlington, VA 22230, www.nsf.gov/nsb.

CONTACT FOR INFORMATION: Michael P. Crosby, Executive Officer, NSB (703) 292-7000.

STATUS: This meeting will be open to the public.

MATTERS TO BE CONSIDERED:

Friday, April 30, 2004

Planning Discussion to Establish a Process for Reassessment of Current Prioritization of Board-Approved Large Facility Projects.

Michael P. Crosby,
Executive Officer, NSB.

[FR Doc. 04-9654 Filed 4-23-04; 3:04 pm]

BILLING CODE 7555-01-P